DEPARTMENT OF THE INTERIOR

National Park Service

[NPS-WASO-NAGPRA-NPS0035099; PPWOCRADN0-PCU00RP14.R50000]

Notice of Intent To Repatriate Cultural Items: University of Nebraska State Museum, Lincoln, NE

AGENCY: National Park Service, Interior.

ACTION: Notice.

SUMMARY: In accordance with the Native American Graves Protection and Repatriation Act (NAGPRA), the University of Nebraska State Museum intends to repatriate certain cultural items that meet the definition of sacred objects and objects of cultural patrimony and that have a cultural affiliation with the Indian Tribes or Native Hawaiian organizations in this notice. The cultural items were removed from an unknown location.

DATES: Repatriation of the cultural items in this notice may occur on or after February 13, 2023.

ADDRESSES: Taylor Ronquillo, University of Nebraska State Museum, 900 N 16th Street, Lincoln, NE 68508, telephone (402) 472-6592, email tronquillo2@unl.edu.

SUPPLEMENTARY INFORMATION: This notice is published as part of the National Park Service's administrative responsibilities under NAGPRA. The determinations in this notice are the sole responsibility of the University of Nebraska State Museum. The National Park Service is not responsible for the determinations in this notice. Additional information on the determinations in this notice, including the results of consultation, can be found in the summary or related records held by the University of Nebraska State Museum.

Description

The 14 cultural items were removed from an unknown location. The only information provided to the University of Nebraska State Museum (UNSM) concerning their provenience was that they share a geographical location of the Northwest Coast.

On May 24, 2021, the UNSM obtained ownership of 1,355 objects from the Joslyn Art Museum (JAM). JAM had obtained ownership of this collection from the Omaha Public Library on December 10, 2020. Among these 1,355 objects were 13 cultural items—two sacred objects and 11 objects of cultural patrimony—from the Northwest Coast Region. The two sacred objects are one seal drag and one dew claw rattle. The 11 objects of cultural patrimony are three baskets, one spoon, three hooks, one slate adz, two harpoon heads, and one harpoon.

In 1892, Harvey Shotwell donated a spirit canoe to UNSM. There only information accompanying this donation was that the item came from the Northwest Coast Region. This spirit canoe is a sacred object.

On September 16, 2022, during consultation between the Stillaguamish Tribe of Indians of Washington and the UNSM, tribal representatives identified the spirit canoe, the seal drag, and the dew claw rattle as sacred objects and the three baskets, the spoon, the three hooks, the slate adz, the two harpoon heads, and the harpoon as objects of cultural patrimony, and they also requested the repatriation of these 14 cultural items. According to information provided by the Tribe, these items are typical of the region, similar items have been used in ceremonial ways by the Tribe, and local Tribal artists still create similar items today.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical and oral traditional.

Determinations

Pursuant to NAGPRA and its implementing regulations, and after consultation with the appropriate Indian Tribes and Native Hawaiian organizations, the University of Nebraska State Museum has determined that:

• Three of the cultural items described above are specific ceremonial objects needed by traditional Native American religious leaders for the practice of traditional Native American religions by their present-day adherents.

• Eleven of the cultural items described above have ongoing historical, traditional, or cultural importance central to the Native American group or culture itself, rather than property owned by an individual.

• There is a relationship of shared group identity that can be reasonably traced between the cultural items and the Stillaguamish Tribe of Indians of Washington (previously listed as Stillaguamish Tribe of Washington).

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 13, 2023. If competing requests for repatriation are received, the University of Nebraska State Museum must determine the most appropriate requestor prior to repatriation. Requests for joint repatriation of the cultural items are considered a single request and not competing requests. The University of Nebraska State Museum is responsible for sending a copy of this notice to the Indian Tribe identified in this notice.

Authority: Native American Graves Protection and Repatriation Act, 25 U.S.C. 3003, and the implementing regulations, 43 CFR 10.8, 10.10, and 10.14.

Dated: January 4, 2023.
Melanie O'Brien,
Manager, National NAGPRA Program.

[FR Doc. 2023-00471 Filed 1-11-23; 8:45 am]

BILLING CODE 4312-52-P